SOCIAL SECURITY ADMINISTRATION

[Docket No: SSA-2025-0123]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA.

(SSA) Social Security Administration, OLCA, Attn: Reports Clearance Director, Mail Stop 3253 Altmeyer, 6401 Security Blvd., Baltimore, MD 21235, Fax: 833-410-1631, Email address: OR.Reports.Clearance@ssa.gov.

Or you may submit your comments online through https://www.reginfo.gov/public/do/PRAmain by clicking on Currently under Review—Open for Public Comments and choosing to click on one of SSA's published items. Please reference Docket ID Number [SSA-2025-0123] in your submitted response.

I. The information collections below are pending at SSA. SSA will submit them to OMB within 60 days from the date of this notice. To be sure we consider your comments, we must receive them no later than September 19, 2025. Individuals can obtain copies of the collection instrument by writing to the above email address.

1. Continuing Disability Review Report—20 CFR 404.1589 & 416.989—0960-0072. Sections 221(i), 1614(a)(3)(H)(ii)(I) and 1633(c)(1) of the Social Security Act (Act) require SSA to periodically review the cases of individuals who receive benefits under Title II or Title XVI based on disability to determine if their disability continues. SSA considers adults eligible for disability payments if they continue to be unable to do substantial gainful activity because of their impairments, and we consider Title XVI children eligible for disability payment if they have marked and severe functional limitations because of their impairments. To assess claimants' ongoing disability payment eligibility, SSA uses the information gathered through the Continuing Disability Review Report to complete a mandatory review for the continue disability review (CDR).

SSA also uses the Continuing Disability Review Report to obtain information on sources of medical treatment; participation in vocational rehabilitation programs (if any); attempts to work (if any); and recipients' assessments when they believe their conditions improved. Title II or Title XVI disability recipients can complete the Continuing Disability Review Report using one of three modalities: (1) a paper application or fillable PDF (using Form SSA-454-BK); (2) a field office interview, during which SSA employees enter claimant's data directly into the Electronic Disability Collection System (EDCS); or (3) using an online system (i454), which is a web-based modality that provides recipients a fully electronic platform for submitting information to increase accessibility and enhance automation. When SSA initiates a medical CDR, we send a mailed notice to the individual with a disability informing that individual that SSA requires a CDR. The mailed notice provides instructions to the recipient on how to assist the agency with initiating the CDR and gives the individual the option to complete a paper SSA-454 or an i454 for adult only disabled individuals. When an individual requires a CDR, a claims specialist (CS) mails the paper Form SSA-454-BK, and the respondent completes the form, and sends or brings it back to SSA; or the CS interviews the respondent and enters the information into the appropriate EDCS screens; or adult disabled individuals submit the information electronically using the i454 internet application. Regardless of the modality the respondent uses to complete the information (paper, EDCS, or internet versions), SSA electronically stores the information provided in EDCS. The respondents complete the SSA-454-BK by themselves with self-help information available, or a representative may complete the paper form or electronic application on their behalf. The respondents are Title II or Title XVI disability recipients or their representatives.

Type of Request: Revision of an OMB-approved information collection.

Modality of completion | Number of respondents | Frequency of response | Average burden per response (minutes) | Estimated total annual burden (hours) | Average theoretical hourly cost amount (dollars) ** | Average wait time in field office and teleservice centers (minutes) *** | Total annual opportunity cost (dollars) ****
SSA-454-BK (paper version) | 249,194 | 1 | * 600 | 2,491,940 | ** $13.30 | *** 23 | **** $34,413,271
Electronic Disability Collect System (EDCS) | 267,975 | 1 | * 600 | 2,679,750 | ** 13.30 | *** 180 | **** 46,332,878
i454 (Internet) | 45,763 | 1 | * 600 | 457,630 | ** 13.30 |  | **** 6,086,479
Totals | 562,932 |  |  | 5,629,320 |  |  | **** 86,832,628
* The estimated time of 600 minutes to complete Form SSA-454-BK is an average for the respondents, who are Title II or Title XVI disability recipients or their representatives. Some of these respondents may take longer to complete the forms and submit the information, while others will complete the forms faster, which is why we use average time estimates to calculate time burdens for these information collections. These estimates were originally developed, and are still based on, our current management information data.
** We based this figure on the average DI payments based on SSA's current FY 2025 data (https://www.ssa.gov/legislation/2024FactSheet.pdf).
*** We based this figure on the average FY 2025 wait times for field offices (23 minutes) and for teleservice centers (180 minutes), based on SSA's current management information data. This figure reflects the data posted on our public facing website (800 number performance | SSA) on the date we drafted this notice. As the figures fluctuate daily, the wait times may be different on the publication date of this notice.
**** This figure does not represent actual costs that SSA is imposing on recipients of Social Security payments to complete this application; rather, these are theoretical opportunity costs for the additional time respondents will spend to complete the application. There is no actual charge to respondents to complete the application.

2. Consent Based Social Security Number Verification Process—20 CFR 400.100—0960-0760. The Consent Based Social Security Number Verification (CBSV) process is a fee-based automated Social Security number (SSN) verification service available to private businesses and other requesting parties. To use the system, private businesses and requesting parties must register with SSA and obtain valid consent from SSN holders prior to verification. We collect the information to verify if the submitted name and SSN match the information in SSA records. After completing a registration process and paying the fee, the requesting party can use the CBSV process to submit a file containing the names of number holders who gave valid consent, along with each number holder's accompanying SSN and date of birth (if available) to obtain real-time results using a web service application or SSA's Business Services Online (BSO) application. SSA matches the information against the SSA master file of SSNs, using SSN, name, date of birth, and gender code (if available). The requesting party retrieves the results file from SSA, which indicates only a match or no match for each SSN submitted.

Under the CBSV process, the requesting party does not submit the consent forms of the number holders to SSA. SSA requires each requesting party to retain a valid consent form for each SSN verification request. The requesting party retains the consent forms in either electronic or paper format.

SSA added a strong audit component to ensure the integrity of the CBSV process. At the discretion of the agency, we require audits (called “compliance reviews”) with the requesting party paying all audit costs. Independent certified public accounts (CPAs) conduct these reviews to ensure compliance with all the terms and conditions of the party's agreement with SSA, including a review of the consent forms. CPAs conduct the reviews at the requesting party's place of business to ensure the integrity of the process. In addition, SSA reserves the right to perform unannounced onsite inspections of the entire process, including review of the technical systems that maintain the data and transaction records. The respondents to the CBSV collection are the participating companies; members of the public who consent to the SSN verification; and CPAs who provide compliance review services.

Type of Request: Revision of an OMB-approved information collection.

Time Burden:

Requirement | Number of respondents | Frequency of response | Number of responses | Average burden per response (minutes) | Estimated total annual burden (hours) | Average theoretical hourly cost amount (dollars) * | Total annual opportunity cost (dollars) **
Participating Companies
Registration process for new participating companies | *** 8 | 1 | 8 | 120 | 16 | * $45.04 | *** $721
Creation of file with SSN holder identification data; maintaining required documentation/forms | 52 | **** 251 | 13,052 | 60 | 13,052 | * 45.04 | ** 587,862
Using the system to upload request file, check status, and download results file | 52 | 251 | 13,052 | 5 | 1,088 | * 45.04 | ** 49,004
Storing Consent Forms | 52 | 251 | 13,052 | 60 | 13,052 | * 45.04 | ** 587,862
Activities related to compliance review | 52 | 251 | 13,052 | 60 | 13,052 | * 45.04 | ** 587,862
Totals | 216 |  | 52,213 |  | 52,224 |  | ** 1,813,311

Participating Companies Who Opt for External Testing Environment (ETE)
ETE Registration Process (includes reviewing and completing ETE User Agreement) | 19 | 1 | 19 | 180 | 57 | * $45.04 | ** $2,567
Web Service Transactions | 19 | 50 | 950 | 1 | 16 | * 45.04 | ** 721
Reporting Issues Encountered on Web service testing (e.g., reports on application's reliability) | 19 | 50 | 950 | 1 | 16 | * 45.04 | ** 721
Reporting changes in users' status (e.g., termination or changes in users' employment status; changes in duties of authorized users) | 19 | 1 | 19 | 60 | 19 | * 45.04 | ** 856
Cancellation of Agreement | 19 | 1 | 19 | 30 | 10 | * 45.04 | ** 450
Dispute Resolution | 19 | 1 | 19 | 120 | 38 | * 45.04 | ** 1,711
Totals | 114 |  | 3,004 |  | 156 |  | 7,026

People Whose SSNs SSA Will Verify
Reading and signing authorization for SSA to release SSN verification (Form SSA-89) | 597,295 | 1 | 597,295 | 3 | 29,865 | * $13.30 | ** $397,205
Responding to CPA re-contact | 3,074 | 1 | 3,074 | 5 | 256 | * 45.04 | ** 11,530
Totals | 600,369 |  | 600,369 |  | 30,121 |  | ** 408,735
* We based this figure on the average DI payments based on SSA's current FY 2025 data (https://www.ssa.gov/legislation/2024FactSheet.pdf), and on the average Business and Financial operations occupations hourly salaries, as reported by Bureau of Labor Statistics data (Occupational Employment and Wage Statistics).
** This figure does not represent actual costs that SSA is imposing on recipients of Social Security payments to complete this application; rather, these are theoretical opportunity costs for the additional time respondents will spend to complete the application. There is no actual charge to respondents to complete the application.
*** One-time registration process approximately 10 new participating companies per year.
*** Please note there are 251 Federal business days per year on which a requesting party could submit a file.
There is one CPA respondent conducting compliance reviews and preparing written reports of findings. The average burden per the 52 responses is 3,120 minutes for a total burden of 6,400 hours annually.

3. Statement for Determining Continuing Entitlement for Special Veterans Benefits (SVB)—0960-0782. Title VIII of the Act provides for the payment of Special Veterans benefits (SVB) to certain World War II veterans who reside outside of the United States. SSA regularly reviews individuals' claims for SVB to determine their continued eligibility and correct payment amounts. SSA requires individuals living outside the United States receiving SVB to report any changes to SSA that may affect their benefits. These include changes such as:

(1) a change in mailing address or residence; (2) an increase or decrease in a pension, annuity, or other recurring benefit; (3) a return or visit to the United States for a calendar month or longer; or (4) an inability to manage benefits. SSA uses Form SSA-2010-F6, to collect this information. All beneficiaries have face-to-face interviews with the Federal Benefits Unit (FBU) every year who assist them in completing this form. Respondents are SVB beneficiaries living outside the United States.

Type of Request: Revision of an OMB-approved information collection.

Modality of completion | Number of respondents | Frequency of response | Average burden per response (minutes) | Estimated total annual burden (hours) | Average theoretical hourly cost amount (dollars) ** | Average wait for teleservice centers (minutes) *** | Total annual opportunity cost (dollars) ****
SSA-2010 | 30 | 1 | 20 | 10 | $32.66 * | 180 ** | $3,266 ***
* We based this figure on average U.S. worker's hourly wages, as reported by Bureau of Labor Statistics data (Occupational Employment and Wage Statistics).
** We based this figure on the average FY 2025 wait times for telephone centers (180 minutes), based on SSA's current management information data. This figure reflects the data posted on our public facing website (800 number performance | SSA) on the date we drafted this notice. As the figures fluctuate daily, the wait times may be different on the publication date of this notice.
*** This figure does not represent actual costs that SSA is imposing on recipients of Social Security payments to complete this application; rather, these are theoretical opportunity costs for the additional time respondents will spend to complete the application. There is no actual charge to respondents to complete the application.

4. Fee Agreement for Representation before the Social Security Administration—0960-0810. The Act requires individuals who represent a claimant before the agency and want to receive a fee for their services to obtain SSA's authorization of the fee. One way to obtain the authorization is to submit the fee agreement to the agency either in writing or through using Form SSA-1693, Fee Agreement for Representation before the Social Security Administration. Since representatives currently use fee agreements which vary in length, content, and complexity, submission of a free-form fee agreement may cause delays in SSA's review time. SSA encourages respondents to use Form SSA-1693 to submit the information either using the paper form or the electronically submittable e1693 through SSA's website. SSA uses the information from the SSA-1693 to review the request and authorize any fee to representatives who seek to charge and collect a fee from a claimant. The respondents are the representatives who help claimants through the application process, and the claimants who they represent.

Type of Request: Revision of an OMB-approved information collection.

Modality of completion | Number of respondents | Frequency of response | Average burden per response (minutes) | Estimated total annual burden (hours) | Average theoretical hourly cost amount (dollars) * | Total annual opportunity cost (dollars) **
Form SSA-1693 | 4,225 | 1 | 12 | 845 | * $60.26 | ** $50,920
e1693 | 1,745 | 1 | 13 | 378 | * 60.26 | ** 22,778
Written Agreements on Representative's Stationary | 1,575,773 | 1 | 20 | 525,257 | * 60.26 | ** 31,651,987
Totals | 1,581,743 |  |  | 526,480 |  | ** 31,725,685
* We based this figure on the averaged total of the average Lawyer's Legal Services wages, and the average U.S. worker's hourly wages (Occupational Employment and Wage Statistics) as reported by Bureau of Labor Statistics data.
** This figure does not represent actual costs that SSA is imposing on recipients, of, Social Security payments to complete this application; rather, these are theoretical opportunity costs for the additional time respondents will spend to complete the application. There is no actual charge to respondents to complete the application.

5. mySocial Security—Security Authentication PIN—20 CFR 401.45—0960-0846. To mitigate fraud concerns, in April 2025, SSA increased the level of identity proofing needed for respondents to make payment method changes during phone interactions for direct deposit changes. While necessary to protect the public and the integrity of SSA's programs, this limits the accessibility of the phone as a service channel for direct deposit changes as they require identity proofing. To bridge this gap, SSA published a New Emergency Request FRN on April 18, 2025, at 90 FR 16583, then, upon OMB's approval of the Emergency Clearance, implemented a hybrid identity proofing process called the my Social Security—Security Authentication PIN (SAP) that provides identity-proofing parity with our online modality, as well as in-person verification for the direct deposit request. Utilizing the SAP process provides the necessary identity verification to allow direct deposit revisions via phone or in person, while ensuring fraud protection through verification of the identity of the individual prior to accessing or revising their account.

OMB granted a six-month Emergency approval for the my Social Security—Security Authentication PIN (SAP) collection. We are publishing this 60-day comment period Notice to initiate the full information collection request renewal for the SAP process. We received public comments on the Emergency FRN which we will address within the documentation for the full renewal.

Background

Our prior telephone process for direct deposit required respondents to use knowledge-based questions to verify their identity matching SSA's records. Depending upon the situation, the requested information or action, and the judgement of potential misrepresentation of the caller, the SSA technician asked additional approved questions to verify the customer's identity. While this process was sufficient fraud protection and authentication under current NIST specifications for access to non-sensitive information, it still poses a fraud risk for respondents who wish to complete tasks for which our automated telephone system, or internet platforms normally request higher levels of identity proofing and authentication. Knowledge-based methods are susceptible to compromise by fraudulent actors who have become increasingly capable of obtaining the answers to knowledge-based questions. Direct deposit changes provide an opportunity for attackers to convert beneficiary payments to their own use. Consequently, we consider the establishment of or revisions to direct deposit account information to be a higher risk task meriting a heightened identity assurance standard. To ensure that higher level of identity verification, we instituted the SAP process.

Description of the Security Authentication PIN (SAP) Process

SSA implemented the hybrid SAP process to digitally verify the identity of a telephone or in person customer when requesting changes to their account or record for direct deposit. This supports the agency's changes to its identity proofing policy for direct deposit enrollments, updates or cancellations. It allows for higher authentication over the phone, and for in-person requests, where respondents could provide acceptable forms of identification (e.g., State ID/driver's license, U.S. Passport, etc.), the SAP allows for an alternate method for respondents who may not have the requisite documentation with them.

Whether over the phone or in person, when a respondent requests changes to their direct deposit the automated telephone system or field office intake technician moves the respondent to a dedicated queue for direct deposit changes which allows for a shorter wait time (either on the phone or in person). Then an SSA technician asks if the respondent has a my Social Security account. If they do, the technician asks the respondent to log into the account through a dedicated link (www.ssa.gov/pin), or sends the link to the respondent via email or text message so that the respondent may authenticate using their online account and generate an eight-digit SAP. The SAP is valid for three hours and generates immediately when the respondent selects “Generate PIN” from the link the technician provided. There is no limit to the number of SAPs a customer can generate during a single transaction.

To ease the burden on customers, SSA created the user-friendly vanity URL (a custom, short-cut URL) that navigates respondents directly to the SAP generation page, allowing them to quickly and easily generate the SAP after accessing their account. This feature reduces the burden on the respondent to navigate within their online account, authenticate, and generate the SAP.

The process works as follows:

For respondents who contact SSA by telephone for direct deposit:

• The SSA technician will first requires the respondent to provide his or her Social Security Number (SSN).

• The technician will then ask if the respondent has a my Social Security account.

○ If the answer is Yes:

The technician asks the respondent to login to the account using the vanity URL (www.ssa.gov/pin) or provides the URL through a text or email message.

The link prompts the respondent to sign into the account using multifactor authentication, then directs them to the page to generate the SAP.

The respondent uses the link to generate the SAP by selecting “Generate PIN.” The SAP is valid for three hours.

The technician asks the respondent to verbally recount the SAP.

The technician enters the SAP into the system to verify the respondent's identity.

• If the SAP matches in the system, the technician continues with the call and helps with direct deposit requests.

• If the SAP does not match in the system, the technician asks the respondent to generate a new SAP and proceeds again through the above steps.

○ If the answer is No:

The technician instructs the respondent to create a my Social Security account using Login.gov or ID.me (OMB Control No. 0960-0789), and requests that the respondent call back once they create the account.

Note: If the respondent does not want to create a my Social Security account, the technician directs the respondent to visit a local field office and present identification documents in person.

For Respondents who visit SSA in person to request direct deposit changes but do not have an identity document:

• The SSA technician will first requires the respondent to provide his or her Social Security Number (SSN).

• After the respondent provides the SSN, the technician requests acceptable forms of identification (e.g., State ID/driver's license, U.S. Passport, etc.).

• If the respondent does not have an acceptable form of identification, the technician asks if the respondent has a my Social Security account.

○ If the answer is Yes:

The technician asks the respondent to log into their account using the vanity URL (www.ssa.gov/pin) or provides the URL through a text or email message.

The technician waits for the respondent to log into their account and may assist if the respondent needs help.

The respondent generates the SAP using the “Generate PIN” button and shares the SAP with the technician.

The technician enters the SAP into the system to verify the respondent's identity.

• If the SAP matches, the technician continues with the direct deposit changes.

• If the SAP does not match, the technician asks the respondent to generate a new SAP and proceeds again through the steps above.

○ If the answer is No:

The technician instructs the respondent to create a my Social Security account using Login.gov or ID.me. If the respondent needs help creating the account, the technician assists with creation.

Note: if the respondent does not wish to create an account, the technician directs the respondent to find acceptable identification documents and return to the field office to present them in person.

Information the Security Authentication PIN Tool Will Collect

While the public-facing SAP tool itself does not collect any information, the process of creating or logging into a my Social Security account requires the respondent to submit several pieces of identifying information (such as an email address, a password, selecting a multi-factor authentication method, and completing identity proofing, which entails uploading an ID and taking a selfie) to both sign up or login using ID.me or Login.gov. We obtained OMB approval for this process under OMB No. 0960-0789. However, as the transmittal of the vanity URL, generation of the SAP, and the requirement to share the SAP with the technician impose an additional time burden on the public, we are accounting for that time burden here.

For Respondents who cite a dire need situation to conduct business over the phone (who are unable to generate the SAP or visit a field office):

SSA understands that there are some dire need situations which require the respondents to use the phone for direct deposit changes when they are unable to visit a field office, use SSA's online service, or use SAP process for direct deposit changes. These dire need situations include respondents who: are restricted from visiting a field office; are homebound or institutionalized; or have another extreme hardship such as an inability to travel or use our online services. For these respondents, we offer an exception process, which allows the respondents to submit the request for the exception through a personal interview with a technician using Form SSA-553, Special Determination. The technician initiates the exception process during the interview for the SAP process if the respondent is unable to complete the process or visit a field office due to severe restrictions. In those cases, the SSA technician, or SSA management, completes the fillable PDF version of the SSA-553 during the personal interview. The technician then submits the completed SSA-533 to SSA management who reviews the request and decides whether the grant the exception based on the information provided. If management grants the exception, the respondent uses knowledge-based authentication over the phone prior to completing their direct deposit changes. Since this process is less effective in mitigating fraud, SSA limits the use of this request to dire need situations. SSA technicians determine dire need on a case-by-case basis.

The respondents are individuals who wish to do business with SSA over the telephone or in person for the purposes of direct deposit enrollments, updates or cancellations.

Type of Request: Revision of an OMB-approved information collection.

Modality of completion | Number of respondents | Frequency of response | Average burden per response (minutes) | Estimated total annual burden (hours) | Average theoretical hourly cost amount (dollars) * | Average combined wait time for teleservice center or field office in the dedicated direct deposit queue (minutes) ** | Total annual opportunity cost (dollars) ***
Respondents requesting phone-based assistance direct deposit changes using the SAP Process | 598,443 | 1 | + 8 | 79,792 | * $32.66 | 6 | *** $4,560,512
Respondents requesting direct deposit changes who failed SAP over the phone | 36,096 | 1 | 4 | 2,406 | * 32.66 | 6 | *** 196,483
Respondents requesting direct deposit in a field office who need identity proofing via SAP | ++ 608 | 1 | + 10 | 101 | * 32.66 | 23 | *** 10,908
Respondents who decline to use SAP and visit a field office for in-person identity proofing to make the direct deposit change | 1,729,045 | 1 | 8 | 230,539 | * 32.66 | 23 | *** 29,176,484
Respondents requesting an exception for dire need situations using the SSA-553 | 23,244 | 1 | 5 | 1,937 | * 32.66 | 15 | *** 253,050
Totals | 2,387,436 |  |  |  |  |  | *** 34,197,437
+ Note: this figure does not include the knowledge-based questions; however, we will use this figure in place of the knowledge-based question figure currently listed under OMB No. 0960-0789 for telephone respondents.
++ We note that some of these respondents may already have my Social Security accounts. For the purposes of this Emergency Clearance, we will assume they need to create an account which is why they needed to go into the field office, and we account for burden to create an account under OMB No. 0960-0789.
* We based this figure on the average U.S. worker's hourly wages, as reported by Bureau of Labor Statistics data (Occupational Employment and Wage Statistics).
** We based this figure on the average FY 2025 wait times for the teleservice centers and field offices dedicated direct deposit queue, as well as the combined wait time for the dedicated queue, based on SSA's current management information data.
*** This figure does not represent actual costs that SSA is imposing on recipients of Social Security payments to complete this online tool; rather, these are theoretical opportunity costs for the additional time respondents will spend to complete the tool. There is no actual charge to respondents to complete the online tool.

II. SSA submitted the information collections below to OMB for clearance. Your comments regarding this information collection would be most useful if OMB and SSA receive them 30 days from the date of this publication. To be sure we consider your comments, we must receive them no later than August 20, 2025. Individuals can obtain copies of this OMB clearance package by writing to the OR.Reports.Clearance@ssa.gov.

1. Consent for Release of Information and Consent for Disclosure of Records Protected Under the Privacy Act (Privacy and Disclosure of Official Records and Information and Availability of Information and Records to the Public)—20 CFR 401.40(b)&(c), 401.45, 401.55(b), 401.65(a), 401.100; 20 CFR 401.130; and 20 CFR 402—0960-0566. Within the Privacy and Disclosure of Official Records and Information regulations, SSA has established methods through which the public can provide consent for release of records under the Privacy Act of 1974. The public can also request records accessible through the Freedom of Information Act (FOIA).

We collect the necessary information for these requests through written correspondence, including the Form SSA-3288; other writings, including non-SSA forms often used by large employers, that incorporate SSA's consent requirements; or the Form SSA-3288-OP1 via a webform application linked on SSA's Privacy Program website. The Form SSA-3288-OP1 allows an individual to consent to and authorize SSA to disclose specific types of records that an individual can alternatively request through other writings and written correspondence; however, an individual can consent to and authorize SSA to disclose a broader range of types of records when using other writings and written correspondence (other than Form SSA-3288-OP1).

Consent for Release of Records:

SSA obtains the required consent(s) (with certain exceptions specified by law) from anyone requesting information in SSA systems of records about another individual. We will not release information requested about an individual until we obtain the required consent from that individual. Under the Privacy Act of 1974 (5 U.S.C. 552a(b)), individuals may give SSA written consent to disclose their personal information to a third party of their choosing. In addition, individuals may have multiple needs for the disclosure of their personal information, such as for qualification for a mortgage or preemployment screenings.

a. Form SSA-3288 (Consent for Release of Information): Form SSA-328 is SSA's preferred paper form for requests for disclosure of information based on the consent of the subject of record. Respondents can download the SSA-3288 from www.ssa.gov/forms, obtain a copy at a local SSA field office, or request SSA mail a copy to them directly. Use of this form ensures compliance with SSA consent regulations at 20 CFR 401.100. SSA also collects consent on other writings, including non-SSA forms often used by large employers, that incorporate SSA's consent requirements.

b. Form SSA-3288-OP1 (Consent for Disclosure of Records Protected Under the Privacy Act): Form SSA-3288-OP1 complies with the CASES Act, OMB M-21-04, and SSA consent regulations at 20 CFR 401.100. The CASES Act directed OMB to develop templates for, among other things, electronic consents for SSA to disclose records protected by the Privacy Act of 1974 to third parties. OMB implemented that statutory directive in M-21-04. SSA developed the SSA-3288-OP1 pursuant to the CASES Act and M-21-04. The public can access the webform application that populates Form SSA-3288-OP1 online by selecting the “Submit an Electronic Consent to Disclose Records” link found at www.ssa.gov/privacy. The public can also find the “Submit an Electronic Consent to Disclose Records” page with the link to the SSA-3288-OP1 by typing in relevant search terms at www.ssa.gov.

The respondents are individuals consenting to, authorizing, and requesting SSA disclosure of their records protected by the Privacy Act of 1974 to third parties.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
a. Amendment of Records | 100 | 1 | 10 | 17 | * $32.66 | ** 23 | *** $1,796
b. Consent for Release of Information (SSA-3288) + | 440,374 | 1 | 5 | 36,698 | * $32.66 | ** 23 | *** 6,711,891
c. Consent for Release of Records (Electronic SSA-3288-OP1) + | 1,152 | 1 | 10 | 192 | * 32.66 |  | *** 6,271
Totals | 441,626 |  |  | 36,907 |  |  | *** 6,719,958
+ The number of respondents for this modality is based on SSA's analytics data for the number of SSA-3288 and SSA-3288-OP1 forms submitted to SSA in fiscal year (FY) 2024.
* We based this figure on average U.S. worker's hourly wages, as reported by Bureau of Labor Statistics data (Occupational Employment and Wage Statistics).
** We based this figure on the average FY 2025 wait times for field offices, based on SSA's current management information data.
*** This figure does not represent actual costs that SSA is imposing on recipients of Social Security payments to complete this application; rather, these are theoretical opportunity costs for the additional time respondents will spend to complete the application. There is no actual charge to respondents to complete the application.

2. Enterprise Scheduling System (ESS) and National Appointment and Scheduling Calendar (NASC)—0960-0828. The Enterprise Scheduling System (ESS) allows for both customer self-scheduling and technician-assisted scheduling through an electronic scheduling tool, while the National Appointment and Scheduling Calendar (NASC) allows for technician-assisted scheduling through the ESS platform for initial claims appointment requests. The first ESS release specifically allowed self-scheduling for enumeration services. However, we are now extending its current functionality, enabling customers and technicians to: (1) schedule, reschedule, or cancel enumeration appointments for new or replacement Social Security cards; and (2) complete Post-Entitlement (PE) actions, such as changing a Representative Payee, processing non-receipt of payment, updating an SSI record, or submitting evidence. In addition, ESS will allow technicians the ability to schedule, reschedule or cancel PE appointments on behalf of customers. Finally, NASC will allow technicians to schedule, reschedule or cancel initial claims appointments for customers. We expect to continue to expand our scheduling capabilities moving forward and will eventually use NASC to incorporate all scheduling systems.

Customers use ESS and NASC to schedule an appointment to obtain a new SSN or a replacement Social Security card, for assistance with a PE action, or to schedule a technician-assisted initial claims appointment. ESS and NASC offer customers the following services:

• Appointment scheduling

• Electronic communication

• Workload evaluation/planning/management

• Research

• Regulatory Mandated/Compliance

• General purpose statistics.

ESS facilitates both customer self-scheduling and technician scheduling, along with NASC which facilitates technician scheduling, allowing SSA to collect essential information from customers, including their name, Social Security number, zip code, telephone number, and email address. Additionally, customers have the option to consent to electronic messaging or to opt out, as well as specify their preferred method of communication (email or text), language preference, preferred service office, and appointment day and time preferences. SSA uses this information to schedule in-office, phone, or video appointments for processing enumeration, PE actions, or initial claim appointments. Customers scheduling their PE or initial claim appointments through a technician have the option to create a one-time passcode, enabling them to securely update their appointment online. The technician documents this one-time passcode along with the customer's other appointment preferences.

Customers begin the process by accessing SSA.gov and engaging an online questionnaire to determine the nature of their business. If applications are available for customers to self-serve, the system routes them to those applications to complete their business. If not, customers are given the option to self-schedule an appointment through ESS. If the customer moves forward, the system directs them to create a credential using Login.gov or ID.me. Once they complete credentialing, customers access ESS to complete required screens and fields to select a date and time for an appointment with an SSA field office (FO) to provide the proofs necessary to obtain a replacement or original SSN card or complete a PE action. Upon completing the required screens and fields, the system presents customers with a screen to review and submit all of the data they input regarding the requested appointment. If the customer enters everything accurately, the system allows the customer to confirm their information and schedules their appointment.

If customers encounter issues with ESS, or they need to request an appointment type which requires technician assistance (e.g., scheduling, rescheduling, or cancelling PE or initial claims appointments), they may contact SSA by phone to have an FO or Telephone Service Center (TSC) technician schedule their appointment. Technicians follow existing processes and policies to identify the caller as a legitimate customer, and converse with the customer to determine the nature of their business and if they require an appointment. If the technician determines the customer needs an appointment, the technician accesses ESS and completes the required screens and fields for the enumeration or PE appointment, or NASC for an initial claim appointment. Once the technician completes the ESS or NASC screens, the technician can review all of the information the customer provided with the customer. If the customer indicates it is correct the technician submits and schedules the appointment.

We conduct this information collection each time a customer accesses the online tool or contacts SSA by phone to schedule an appointment. The respondents are individuals looking to schedule their SSA visit, either through self-scheduling or technician assisted modalities, using ESS and NASC.

This is a Correction Notice: SSA needed to update the burden information for this collection from the information we published at 90 FR 21817, on 5/21/25, which, inadvertently, did not include the burden for the initial claims scheduling. We are correcting the burden information here.

Type of Request: Request for a revision of an OMB-approved information collection.

Modality of completion | Number of respondents | Frequency of response | Average burden per response (minutes) | Estimated total annual burden (hours) | Average theoretical hourly cost amount (dollars) * | Average wait time for teleservice centers (minutes) ** | Total annual opportunity cost (dollars) ***
ESS—Internet | 3,000,000 | 1 | 5 | 250,000 | * $22.98 |  | *** $5,745,000
ESS—Technician (PE Appointments) | 150,000 | 1 | 3 | 7,500 | * 22.98 | ** 102 | *** 6,032,250
NASC—Technician (Initial Claims Appointments) | 7,270,161 | 1 | 10 | 1,211,694 | * 22.98 | ** 102 | *** 311,860,845
Totals | 3,150,000 |  |  | 1,469,194 |  |  | *** 323,638,095
* We based this figure by averaging both the average DI payments based on SSA's current FY 2025 data (https://www.ssa.gov/legislation/2024FactSheet.pdf), and the average U.S. worker's hourly wages, as reported by Bureau of Labor Statistics data (Occupational Employment and Wage Statistics).
** We based this figure by averaging the average FY 2025 wait times for field offices (23 minutes) and teleservice centers (180 minutes), based on SSA's current management information data. This figure reflects the data posted on our public facing website (800 number performance | SSA) on the date we drafted this notice. As the figures fluctuate daily, the wait times may be different on the publication date of this notice.
*** This figure does not represent actual costs that SSA is imposing on recipients of Social Security payments to complete this application; rather, these are theoretical opportunity costs for the additional time respondents will spend to complete the application. There is no actual charge to respondents to complete the application.

Dated: July 17, 2025.
Mark Steffensen,
General Counsel, Deputy Commissioner for Law and Policy, Social Security Administration.

[FR Doc. 2025-13607 Filed 7-18-25; 8:45 am]

BILLING CODE 4191-02-P